DEPARTMENT OF THE INTERIOR

National Park Service

Notice of Submission of Study Package to Office of Management and Budget: Opportunity for Public Comment

AGENCY: Department of the Interior, National Park Service, Acadia National Park.

ACTION: Notice and request for comments.

ABSTRACT: The National Park Service (NPS) in conjunction with the U.S. Navy and the University of Vermont, is proposing in 2001 to conduct a survey of military and civilian employees of the U.S. Navy base located in the Schoodic Peninsula section of Acadia National Park. In the survey, employees will be asked about their recreational use of Acadia National Park and their feelings about how Navy base property should be used if and when it is transferred to the National Park Service.

SUMMARY: Under the provisions of the Paperwork Reduction Act of 1995 and 5 CFR part 1320, Reporting and Record Keeping Requirements, the NPS invites public comment on the proposed information request (ICR). Comments are invited on: (1) The need for the information, including whether the information has practical utility; (2) the accuracy of the reporting burden estimate; (3) ways to enhance the quality, utility, and clarity of the information to be collected; and (4) ways to minimize the burden of the information collection on respondents, including the use of automated collection techniques or other forms of information technology.

The NPS goal in conducting this survey is to determine the amount and type of recreational use of Acadia National Park by U.S. Navy Base employees, and how these employees feel about potential future uses of Navy Base property if and when this property is transferred to the National Park Service.

There were no public comments received as a result of publishing in the Federal Register a 60-day notice of intention to request clearance of information collection for this survey.

DATES: Public comments will be accepted on or before May 29, 2001.

SEND COMMENTS TO: Office of Information and Regulatory Affairs of OMB, Attention Desk Officer for the Interior Department, Office of Management and Budget, Washington, DC 20503.

The OMB has up to 60 days to approve or disapprove the information collection, but may respond after 30 days. Therefore, to ensure maximum consideration, OMB should receive public comments within 30 days from the date listed at the top of this page of the Federal Register.

FOR FURTHER INFORMATION OR A COPY OF THE STUDY PACKAGE SUBMITTED FOR OMB REVIEW, CONTACT: Robert E. Manning: Voice: (802) 656-3096, e-mail: rmanning@nature.snr.uvm.edu.

SUPPLEMENTARY INFORMATION: Title: Survey of Employees at the U.S. Navy Base at Schoodic, Maine.

Bureau Form Number: None.

OMB Number: 1024-new.

Expiration Date: September 30, 2001 (requested).

Type of Request: Request for new clearance.

Description of Need: The National Park Service needs information to plan for the potential transfer of property at the U.S. Navy Base at Schoodic, Maine to the National Park Service.

Automated Data Collection: At the present time, there is not an automated way to gather this information because it includes asking respondents about their use of Acadia National Park and their feelings about how Navy Base property should be used.

Description of Respondents: Military and civilian employees of the U.S. Navy Base at Schoodic, Maine.

Estimated Average Number of Respondents: 200.

Estimated Average Number of Responses: Each respondent will respond only one time, so the number of responses will be the same as the number of respondents.

Estimated Average Burden Hour per Response: 10 minutes.

Frequency of Response: One time per respondent.

Estimated Annual Reporting Burden: 33.3 hours.

Dated: April 5, 2001.
Betsy Chittenden,
Information Collection Clearance Officer, WASO Administrative Program Center, National Park Service.

[FR Doc. 01-10403 Filed 4-25-01; 8:45 am]

BILLING CODE 4310-70-M